DEPARTMENT OF COMMERCE

National Oceanic and Atmospheric Administration

RIN 0648-XC642

Fisheries of the Gulf of Mexico; Southeast Data, Assessment, and Review (SEDAR); Public Meetings; Correction

AGENCY: National Marine Fisheries Service (NMFS), National Oceanic and Atmospheric Administration (NOAA), Commerce.

ACTION: Notice of correction to a notice of the SEDAR 33 Gulf of Mexico gag and greater amberjack workshops and webinars.

SUMMARY: The SEDAR 33 assessment of the Gulf of Mexico stocks of gag (Mycteroperca microlepis) and greater amberjack (Seriola dumerili) will consist of: A Data Workshop; an Assessment process conducted via webinars; and a Review Workshop. See SUPPLEMENTARY INFORMATION.

DATES: The Data Workshop will be held from 1 p.m. on Monday, May 20, 2013 until 12 p.m. on Friday, May 24, 2013 in Tampa, FL. The Assessment Workshop will take place via webinar on the following dates in 2013: July 23; July 29; August 5; August 14; August 21; August 28; September 4; September 11; September 18; September 25; October 2; and October 9. All webinars will begin at 1 p.m. eastern time (ET) and will last approximately four hours. The Review Workshop will take place from 1 p.m. on Monday, November 18, 2013 until 12 p.m. on Thursday, November 21, 2013 in Miami, FL. See SUPPLEMENTARY INFORMATION.

ADDRESSES:

Meeting addresses: The Data Workshop will be held at the Tampa Westshore Marriott, 1001 Westshore Plaza Boulevard, Tampa, FL 33607; (813) 287-2555. The Assessment Workshop webinars will be held via GoToWebinar. The Review Workshop will be held at the Doubletree by Hilton Grande Hotel Biscayne Bay, 1717 N. Bayshore Drive, Miami, FL 33132; (305) 372-0313. All workshops and webinars are open to members of the public. Those interested in participating should contact Ryan Rindone at SEDAR (see FOR FURTHER INFORMATION CONTACT) to request an invitation providing pertinent information. Please request meeting information at least 24 hours in advance.

SEDAR address: 4055 Faber Place Drive, Suite 201, N. Charleston, SC 29405.

FOR FURTHER INFORMATION CONTACT: Ryan Rindone, SEDAR Coordinator; telephone: (813) 348-1630; email: ryan.rindone@gulfcouncil.org.

SUPPLEMENTARY INFORMATION: The original notice published in the Federal Register on April 26, 2013 (78 FR 24730). This notice corrects a date of the Assessment Workshop webinar. The date in the original notice in the DATES section and also in the SUPPLEMENTARY INFORMATION section read July 22 and should be corrected to read July 23. All other previously-published information remains unchanged.

Dated: May 28, 2013.
Tracey L. Thompson,
Acting Deputy Director, Office of Sustainable Fisheries, National Marine Fisheries Service.

[FR Doc. 2013-12971 Filed 5-31-13; 8:45 am]

BILLING CODE 3510-22-P